COMMISSION ON CIVIL RIGHTS

Notice of Public Meeting of the Puerto Rico Advisory Committee to the U.S. Commission on Civil Rights

AGENCY: Commission on Civil Rights.

ACTION: Announcement of meeting.

SUMMARY: Notice is hereby given, pursuant to the provisions of the rules and regulations of the U.S. Commission on Civil Rights (Commission), and the Federal Advisory Committee Act (FACA), that a briefing of the Puerto Rico Advisory Committee to the Commission will convene by virtual web conference on Thursday, September 14, 2023, at 12:00 p.m. Atlantic Time/Eastern Time. The purpose of the briefing is to hear from subject matter experts on their project on the civil rights impacts of the Insular Cases in Puerto Rico with a focus on economic issues.

DATES: September 14, 2023, Monday, at 12:00 p.m. (AT and ET):

ADDRESSES: Meeting will be held via Zoom.

Registration Link (Audio/Visual): https://tinyurl.com/2vcm936u.

Join by Phone (Audio Only): 1-833 435 1820 USA Toll Free; Meeting ID: 161 686 7788#.

FOR FURTHER INFORMATION CONTACT: Email Victoria Moreno, Designated Federal Officer at vmoreno@usccr.gov, or by phone at 434-515-0204.

SUPPLEMENTARY INFORMATION: This meeting will take place in Spanish with English interpretation. This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email ebohor@usccr.gov at least 10 business days prior to the meeting.

Members of the public are entitled to submit written comments; the comments must be received in the regional office within 30 days following the meeting. Written comments may be emailed to Victoria Moreno at vmoreno@usccr.gov. Persons who desire additional information may contact the Regional Programs Coordination Unit at 1-312-353-8311.

Records generated from this meeting may be inspected and reproduced at the Regional Programs Coordination Unit Office, as they become available, both before and after the meeting. Records of the meetings will be available via www.facadatabase.gov under the Commission on Civil Rights, Puerto Rico Advisory Committee link. Persons interested in the work of this Committee are directed to the Commission's website, http://www.usccr.gov, or may contact the Regional Programs Coordination Unit at ebohor@usccr.gov.

Agenda

1. Welcome & Roll Call

2. Committee Briefing: Civil Rights Impacts of the Insular Cases in Puerto Rico

3. Next Steps

4. Public Comment

5. Other Business

6. Adjourn

Dated: August 29, 2023.
David Mussatt,
Supervisory Chief, Regional Programs Unit.

[FR Doc. 2023-19033 Filed 9-1-23; 8:45 am]

BILLING CODE P